FEDERAL EMERGENCY MANAGEMENT AGENCY

44 CFR Part 65

[Docket No. FEMA-7320]

Changes in Flood Elevation Determinations

AGENCY: Federal Emergency Management Agency (FEMA).

ACTION: Interim rule.

SUMMARY: This interim rule lists communities where modification of the base (1-percent-annual-chance) flood elevations is appropriate because of new scientific or technical data. New flood insurance premium rates will be calculated from the modified base flood elevations for new buildings and their contents.

DATES: These modified base flood elevations are currently in effect on the dates listed in the table and revise the Flood Insurance Rate Map(s) in effect prior to this determination for each listed community.

From the date of the second publication of these changes in a newspaper of local circulation, any person has ninety (90) days in which to request through the community that the Associate Director for Mitigation reconsider the changes. The modified elevations may be changed during the 90-day period.

ADDRESSES: The modified base flood elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in base flood elevations are in accordance with 44 CFR 65.4.

National Environmental Policy Act

This rule is categorically excluded from the requirements of 44 CFR Part 10, Environmental Consideration. No environmental impact assessment has been prepared.

Regulatory Flexibility Act

The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arizona: Pima | Unincorporated Areas | January 20, 2000, January 27, 2000, The Arizona Daily Star | The Honorable Sharon Bronson, Chairperson, Pima County Board of Supervisors, 130 West Congress, 11th Floor, Tucson, Arizona 85701 | November 2, 1999 | 060344
California: Orange | City of Anaheim | January 6, 2000, January 13, 2000, Anaheim Bulletin | The Honorable Tom Daly, Mayor, City of Anaheim, P.O. Box 3222, Anaheim, California 92803 | December 22, 1999 | 060213
Colorado:
Arapahoe | Unincorporated Areas | February 3, 2000, February 10, 2000, The Villager | The Honorable Steve Ward, Chairman, Arapahoe County Board of Commissioners, 5334 South Prince Street, Littleton, Colorado 80166-0060 | January 6, 2000 | 080011
Larimer | City of Fort Collins | January 26, 2000, February 2, 2000, The Coloradoan | The Honorable Ray Martinez, Mayor, City of Fort Collins, P.O. Box 580, Fort Collins, Colorado 80522-0580 | December 22, 1999 | 080102
El Paso | City of Colorado Springs | January 4, 2000, January 11, 2000, Gazette Telegraph | The Honorable Mary Lou Makepeace, Mayor, City of Colorado Springs, P.O. Box 1575, Colorado Springs, Colorado 80901-1575 | December 14, 1999 | 080060
Jefferson | Unincorporated Areas | January 19, 2000, January 26, 2000, Columbine Community Charter | The Honorable Michelle Lawrence, Chairperson, Jefferson County Board of Commissioners, 100 Jefferson County Parkway, Suite 5550, Golden, Colorado 80419 | December 22, 1999 | 080087
Larimer | Unincorporated Areas | January 26, 2000, February 2, 2000, The Coloradoan | The Honorable Cheryl Olson, Chairperson, Larimer County Board of Commissioners, P.O. Box 1190, Fort Collins, Colorado 80522-1190 | December 22, 1999 | 080101
Hawaii: Hawaii | Hawaii | February 2, 2000, February 9, 2000, West Hawaii Today | The Honorable Stephen K. Yamashiro, Mayor, Hawaii County, 25 Aupuni Street, Room 202, Hilo, Hawaii 96720-4252 | January 6, 2000 | 155166
Missouri:
Butler | Unincorporated Areas | January 24, 2000, January 31, 2000, Daily American Republic | The Honorable Joe Humphrey, Commissioner, Butler County, Butler County Courthouse, Room 203, Poplar Bluff, Missouri 63901 | January 27, 2000 | 290044
St. Louis | City of Chesterfield | January 11, 2000, January 18, 2000, St. Louis Countian | The Honorable Nancy Greenwood, Mayor, City of Chesterfield, 16052 Swingley Ridge Road, Suite 100, Chesterfield, Missouri 63017 | April 17, 2000 | 290896
Butler | City of Poplar Bluff | January 24, 2000, January 31, 2000, Daily American Republic | The Honorable Reid Forrester, Mayor, City of Poplar Bluff, City Hall, 101 Oak Street, Poplar Bluff, Missouri 63901 | December 27, 1999 | 290047
Pemiscot | City of Steele | February 3, 2000, February 10, 2000, The Steele Enterprise | The Honorable Keith Samford, Mayor, City of Steele, 115 South Walnut Street, Steele, Missouri 63877 | December 20, 1999 | 290279
St. Louis | City of Wildwood | January 11, 2000, January 18, 2000, St. Louis Countian | The Honorable R. W. Marcantano, Mayor, City of Wildwood, 16962 Manchester Road, Wildwood, Missouri 63040 | April 17, 2000 | 290922
New Mexico:
Sandoval | Town of Bernalillo | January 24, 2000, January 31, 2000, Albuquerque Journal | The Honorable Charles Aguilar, Mayor, Town of Bernalillo, P.O. Box 638, Bernalillo, New Mexico 87004 | December 14, 1999 | 350056
Sandoval | City of Rio Rancho | January 24, 2000, January 31, 2000, Albquerque Journal | The Honorable John Jennings, Mayor, City of Rio Rancho, P.O. Box 15550, Rio Rancho, New Mexico 87174 | December 14, 1999 | 350146
Sandoval | Unincorporated Areas | January 24, 2000, January 31, 2000, Albuquerque Journal | Ms. Debbie Hays, County, Manager, Sandoval County, P.O. Box 40, Bernalillo, New Mexico 87004 | December 14, 1999 | 350055
Texas:
Dallas | City of Dallas | December 28, 1999, January 4, 2000, Dallas Morning News | The Honorable Ron Kirk, Mayor, City of Dallas, City Hall, 1500 Marilla Street, Dallas, Texas 75201 | December 2, 1999 | 480171
Dallas | City of Dallas | January 5, 2000, January 12, 2000, Dallas Morning News | The Honorable Ron Kirk, Mayor, City of Dallas, City Hall, 1500 Marilla, Dallas, Texas 75201 | December 15, 1999 | 480171
Dallas | City of Dallas | January 17, 2000, January 24, 2000, Dallas Morning News | The Honorable Ron Kirk, Mayor, City of Dallas, City Hall, 1500 Marilla, Dallas, Texas 75201 | December 20, 1999 | 480171
Tarrant | City of Euless | January 24, 2000, January 31, 2000, Fort Worth Star-Telegram | The Honorable Mary Lib Saleh, Mayor, City of Euless, 201 North Ector Drive, Euless, Texas 76039 | December 22, 1999 | 480593
Tarrant | City of Fort Worth | January 24, 2000, January 31, 2000, Fort Worth Star-Telegram | The Honorable Kenneth Barr, Mayor, City of Fort Worth, 1000 Throckmorton Street, Fort Worth, Texas 76102 | December 22, 1999 | 480596
Harris | Unincorporated Areas | December 28, 1999, January 4, 2000, Houston Chronicle | The Honorable Robert Eckels, Harris County Judge, Harris County, 1001 Preston Street, Suite 911, Houston, Texas 77002 | December 15, 1999 | 480287
Harris | Unincorporated Areas | December 28, 1999, January 4, 2000, Houston Chronicle | The Honorabale Robert Eckels, Harris County Judge, 1001 Preston Street, Suite 911, Houston, Texas 77002 | April 3, 2000 | 480287
Bexar | Town of Hollywood Park | January 5, 2000, January 12, 2000, San Antonio Express-News | The Honorable Gary Mercer, Mayor, Town of Hollywood Park, Two Mecca Drive, Hollywood Park, Texas 78232 | April 11, 2000 | 480040
Midland | City of Midland | January 4, 2000, January 11, 2000, Midland Reporter-Telegram | The Honorable Robert Burns, Mayor, City of Midland, P.O. Box 1152, Midland, Texas 79702-1152 | December 7, 1999 | 480477
Bexar | City of San Antonio | February 4, 2000, February 11, 2000, San Antonio Express-News | The Honorable Howard W. Peak, Mayor, City of San Antonio, P.O. Box 839966, San Antonio, Texas 78282-3966 | May 11, 2000 | 480045
Bexar | City of San Antonio | January 5, 2000, January 12, 2000, San Antonio Express-News | The Honorable Howard W. Peak, Mayor, City of San Antonio, P.O. Box 839966, San Antonio, Texas 78283-3966 | April 11, 2000 | 480045
Bexar | City of Shavano Park | January 5, 2000, January 12, 2000, San Antonio Express-news | The Honorable Tommy Peyton, Mayor, City of Shavano Park, 99 Saddletree Road, San Antonio, Texas 78231 | April 11, 2000 | 480047

(Catalog of Federal Domestic Assistance No. 83.100, “Flood Insurance”)

Dated: May 17, 2000.
Michael J. Armstrong,
Associate Director for Mitigation.

[FR Doc. 00-13999 Filed 6-2-00; 8:45 am]

BILLING CODE 6718-04-p